DEPARTMENT OF COMMERCE

National Oceanic and Atmospheric Administration

[I.D. 042307G]

Marine Mammals; File No. 814-1899

AGENCY: National Marine Fisheries Service (NMFS), National Oceanic and Atmospheric Administration (NOAA), Commerce.

ACTION: Notice; receipt of application.

SUMMARY: Notice is hereby given that North Slope Borough Department of Wildlife Management, P.O. Box 69, Barrow, AK 99723 [Dr. Cheryl Rosa, Principal Investigator] has applied in due form for a permit to obtain and collect marine mammal parts/samples for the purpose of scientific research.

DATES: Written, telefaxed, or e-mail comments must be received on or before May 29, 2007.

ADDRESSES: The application and related documents are available for review upon written request or by appointment in the following office(s):

Permits, Conservation and Education Division, Office of Protected Resources, NMFS, 1315 East-West Highway, Room 13705, Silver Spring, MD 20910; phone (301)713-2289; fax (301)427-2521; and

Alaska Region, NMFS, P.O. Box 21668, Juneau, AK 99802-1668; phone (907)586-7221; fax (907)586-7249.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 814-1899.

FOR FURTHER INFORMATION CONTACT: Jennifer Skidmore or Amy Sloan, (301)713-2289.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The North Slope Borough Department of Wildlife Management is requesting authorization to collect and transport tissues from subsistence-collected and/or stranded (dead) marine mammals of the following species: bearded seal (Erignathus barbatus), ringed seal (Phoca hispida), spotted seal (Phoca larga), and ribbon seal (Phoca fasciata), bowhead whale (Balaena mysticetus), beluga whale (Delphinapterus leucas), minke whale (Balaenoptera acutorostrata), and grey whale (Eschrichtius robustus). These collected tissues would be used to perform a variety of health-related analyses, including (but not limited to): tissue histology, contaminants analyses (elemental analyses, PAH/organochlorine analyses etc.), infectious disease research (culture, PCR analyses), parasitology studies and stable isotope work. Additionally, tissues will be collected to augment the Alaskan Marine Mammal Tissue Archival Project (AMMTAP). No animals will be killed for the purpose of providing samples under this permit.. Locations of collections will be from the Northwest Arctic Borough (St. Lawrence Island, Diomede, Wales and Kivalina) and the North Slope Borough, Alaska. This effort will provide critical baseline data and will be part of a long-term monitoring project being undertaken by the North Slope Borough Department of Wildlife Management in response to public concerns about the safety and health of their subsistence species. This permit is requested for five years.

Concurrent with the publication of this notice in the Federal Register, NMFS is forwarding copies of this application to the Marine Mammal Commission and its Committee of Scientific Advisors.

Dated: April 24, 2007.
P. Michael Payne,
Chief, Permits, Conservation and Education Division, Office of Protected Resources, National Marine Fisheries Service.

[FR Doc. E7-8119 Filed 4-26-07; 8:45 am]

BILLING CODE 3510-22-S